DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Date of modification | Community No.
Alabama:
Henry (FEMA Docket No.: B-2538) | City of Headland (25-04-0618P). | The Honorable Jody Singleton, Mayor, City of Headland, 25 Grove Street Headland, AL 36345. | City Hall, 25 Grove Street Headland, AL 36345. | Sep. 12, 2025 | 01 010097
Madison (FEMA Docket No.: B-2542) | City of Huntsville (24-04-5390P). | The Honorable Thomas Battle, Jr., Mayor, City of Huntsville, P.O. Box 308, Huntsville, AL 35804. | City Hall, 308 Fountain Circle Southwest, 8th Floor, Huntsville, AL 35801. | Sep. 18, 2025 | 01 010153
Madison (FEMA Docket No.: B-2542) | Unincorporated areas of Madison County (24-04-5390P). | The Honorable Mac McCutcheon, Chair, Madison County Board of Commissioners, 100 North Side Square, Suite 700, Huntsville, AL 35801. | Madison County Inspection Department, 266-C Shields Road, Huntsville, AL 35811. | Sep. 18, 2025 | 01 010151
Arizona: Yavapai (FEMA Docket, No.: B-2527) | City of Cottonwood (25-09-0337X). | The Honorable Ann Shaw, Mayor, City of Cottonwood, 827 North Main Street, Cottonwood, AZ 86326. | Public Works Department, 1490 West Mingus Avenue, Cottonwood, AZ 86326. | Jul. 23, 2025 | 040096
California:
Los Angeles (FEMA Docket, No.: B-2527) | City of Los Angeles (25-09-0104P). | The Honorable Karen Bass, Mayor, City of Los Angeles, 200 North Spring Street, Room 303, Los Angeles, CA 90012. | Department of Public Works, 1149 South Broadway, Suite 800, Los Angeles, CA 90015. | Aug. 4, 2025 | 060137
Riverside (FEMA Docket, No.: B-2527) | City of Lake Elsinore (24-09-1047P). | The Honorable Brian Tisdale, Mayor, City of Lake Elsinore, 130 South Main Street, Lake Elsinore, CA 92530. | City Hall, 130 South Main Street, Lake Elsinore, CA 92530. | Jul. 21, 2025 | 060636
Riverside (FEMA Docket, No.: B-2527) | City of Murrieta (22-09-1427P). | The Honorable Lori Stone, Mayor, City of Murrieta, 1 Town Square, Murrieta, CA 92562. | Public Works Department, 1 Town Square, Murrieta, CA 92562. | Aug. 11, 2025 | 060751
San Diego (FEMA Docket, No.: B-2527) | Unincorporated areas of San Diego County (24-09-0910P). | The Honorable Ebony N. Shelton, Chief Administrative Officer, San Diego County, 1600 Pacific Highway, Room 209, San Diego, CA 92101. | San Diego County Flood Control Office, 5510 Overland Avenue, San Diego, CA 92123. | Jul. 23, 2025 | 060284
San Luis Obispo (FEMA Docket, No.: B-2527) | City of San Luis Obispo (24-09-1118P). | The Honorable Erica A. Stewart, Mayor, City of San Luis Obispo, 990 Palm Street, San Luis Obispo, CA 93401. | Department of Public Works, 919 Palm Street, San Luis Obispo, CA 93401. | Jul. 23, 2025 | 060310
Ventura (FEMA Docket, No.: B-2527) | City of Simi Valley (24-09-0344P). | The Honorable Dee Dee Cavanaugh, Mayor, City of Simi Valley, 2929 Tapo Canyon Road, Simi Valley, CA 93063. | City Hall, 2929 Tapo Canyon Road, Simi Valley, CA 93063. | Jul. 23, 2025 | 060421
Colorado:
Boulder (FEMA Docket, No.: B-2527) | City of Louisville (24-08-0497P). | The Honorable Chris Leh, Mayor, City of Louisville, 749 Main Street, Louisville, CO 80027. | City Hall, 749 Main Street, Louisville, CO 80027. | Jul. 21, 2025 | 085076
Larimer (FEMA Docket, No.: B-2527) | Unincorporated areas of Larimer County (24-08-0420P). | The Honorable Kristin Stephens, Chair, Larimer County, Board of Commissioners, P.O. Box 1190, Fort Collins, CO 80522. | Larimer County, Courthouse, 200 West Oak Street, Suite 3000, Fort Collins, CO 80521. | Aug. 1, 2025 | 080101
Weld (FEMA Docket, No.: B-2527) | Town of Firestone (24-08-0277P). | The Honorable Don Conyac, Mayor, Town of Firestone, 9950 Park Avenue, Firestone, CO 80504. | Department of Engineering and Utilities, 9950 Park Avenue, Firestone, CO 80504. | Jul. 31, 2025 | 080241
Idaho: Elmore (FEMA Docket, No.: B-2527) | Unincorporated areas of Elmore County (24-10-0107P). | The Honorable Bud Corbus, Chair, Elmore County, Board of Commissioners, 150 South 4th East Street, Mountain Home, ID 83647. | Elmore County Land Use and Building Department, 520 East 2nd Street South, Mountain Home, ID 83647. | Jul. 31, 2025 | 160212
Illinois: DuPage (FEMA Docket No.: B-2531) | Village of Oak Brook (25-05-0048P). | The Honorable Larry Herman, President, Village of Oak Brook, 1200 Oak Brook Road, Oak Brook, IL 60523. | Village Hall, 1200 Oak Brook Road, Oak Brook, IL 60523. | Sep. 2, 2025 | 170214
Nevada:
Clark (FEMA Docket, No.: B-2527) | City of Henderson (24-09-0945P). | The Honorable Michelle Romero, Mayor, City of Henderson, 240 Water Street, Henderson, NV 89015. | Public Works Department, 240 Water Street, Henderson, NV 89015. | Jul. 16, 2025 | 320005
Clark (FEMA Docket, No.: B-2527) | City of North Las Vegas (24-09-1120P). | The Honorable Pamela Goynes-Brown, Mayor, City of North Las Vegas, 2250 Las Vegas Boulevard North, Suite 910, North Las Vegas, NV 89030. | Public Works Department, 2250 Las Vegas, Boulevard North, North Las Vegas, NV 89030. | Jul. 24, 2025 | 320007
Washoe (FEMA Docket, No.: B-2527) | City of Reno (24-09-0332P). | The Honorable Hillary Schieve, Mayor, City of Reno, 1 East 1st Street, Reno, NV 89505. | City Hall, 1 East 1st Street, Reno, NV 89505. | Aug. 4, 2025 | 320020
Washoe (FEMA Docket, No.: B-2527) | Unincorporated areas of Washoe County (24-09-0332P). | Eric Brown, Washoe County Manager, 1001 East 9th Street, Reno, NV 89512. | Washoe County Administration Complex, 1001 East 9th Street, Reno, NV 89512. | Aug. 4, 2025 | 320019
North Carolina:
Forsyth (Docket No.: B-2534) | City of Winston-Salem (24-04-7062P). | The Honorable Allen Joines, Mayor, City of Winston-Salem, P.O. Box 2511, Winston-Salem, NC 27102. | City Hall, 100 East 1st Street, Winston-Salem, NC 27101. | Sep. 5, 2025 | 375360
Guilford (FEMA Docket No.: B-2531) | City of Greensboro (24-04-2368P). | The Honorable Nancy Vaughan, Mayor, City of Greensboro, P.O. Box 3136 Greensboro, NC 27402. | Stormwater Planning Division, 2602 South Elm, Eugene Street, Greensboro, NC 27402. | Aug. 25, 2025 | 375351
Guilford (FEMA Docket No.: B-2531) | Unincorporated areas of Guilford County (24-04-2368P). | Melvin Alston, Chair, Guilford County Board of Commissioners, 301 West Market Street Greensboro, NC 27401. | Guilford County Planning Department 400 West Market Street, Greensboro, NC 27402. | Aug. 25, 2025 | 370111
Surry (FEMA Docket No.: B-2538) | Unincorporated areas of Surry County (24-04-7917P). | Mark Marion, Chair, Surry County Board of Commissioners, P.O. Box 1467, Dobson, NC 27017. | Surry County Development Services Department, 122 Hamby Road, Dobson, NC 27017. | Sep. 8, 2025 | 370364
Oregon: Multnomah (FEMA Docket, No.: B-2527) | City of Gresham (24-10-0644P). | The Honorable Travis Stovall, Mayor, City of Gresham, 1333 Northwest Eastman Parkway, Gresham, OR 97030. | City Hall, 1333 Northwest Eastman Parkway, Gresham, OR 97030. | Jul. 28, 2025 | 410181
Utah:
Davis (FEMA Docket, No.: B-2527) | City of Farmington (24-08-0551P). | The Honorable Brett Anderson, Mayor, City of Farmington, 160 South Main Street, Farmington, UT 84025. | City Hall, 160 South Main Street, Farmington, UT 84025. | Jul. 28, 2025 | 490044
Davis (FEMA Docket, No.: B-2527) | Unincorporated areas of Davis County (24-08-0551P). | The Honorable Lorene Miner Kamalu, Chair, Davis County Board of Commissioners, P.O. Box 618, Farmington, UT 84025. | Davis County Administrative Office, 61 South Main Street, Farmington, UT 84025. | Jul. 28, 2025 | 490038

[FR Doc. 2025-19208 Filed 10-1-25; 8:45 am]

BILLING CODE 9110-12-P